DEPARTMENT OF HEALTH AND HUMAN SERVICES

Centers for Disease Control and Prevention

[30Day-06-0214]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-4794 or send an e-mail to omb@cdc.gov. Send written comments to CDC Desk Officer, Office of Management and Budget, Washington, DC or by fax to (202) 395-6974. Written comments should be received within 30 days of this notice.

Proposed Project

National Health Interview Survey (NHIS) 2007-2009, (OMB No. 0920-0214)—Revision—National Center for Health Statistics (NCHS), Centers for Disease Control and Prevention (CDC).

Background and Brief Description

The annual National Health Interview Survey (NHIS) is a major source of general statistics on the health of the U.S. population and has been in the field continuously since 1957. This household-based survey collects demographic and health-related information on a nationally representative sample of persons and households throughout the country. Information is collected using computer assisted personal interviews (CAPI). A core set of data is collected annually and supplements are collected periodically. For 2007, supplementary information will be collected on complementary and alternative medicine and hearing problems. These supplements are sponsored by the National Center on Complementary and Alternative Medicine and the National Institute on Deafness and Other Communication Disorders, both parts of the National Institutes of Health.

In accordance with the 1995 initiative to increase the integration of surveys within the Department of Health and Human Services, respondents to the NHIS serve as the sampling frame for the Medical Expenditure Panel Survey conducted by the Agency for Healthcare Research and Quality. The NHIS has long been used by government, university, and private researchers to evaluate both general health and specific issues, such as cancer, diabetes, and access to health care. It is a leading source of data for the Congressionally-mandated “Health US” and related publications, as well as the single most important source of statistics to track progress toward the National Health Promotion and Disease Prevention Objectives, “Healthy People 2010.” There is no cost to the respondents other than their time. The total estimated annualized burden hours are 38,271.

Estimated Annualized Burden Hours
Questionnaire (respondent) | Number of respondents | Number of responses per respondent | Average burden per respondent in hours
Screener Questionnaire | 15,000 | 1 | 5/60
Family Core (adult family member) | 39,000 | 1 | 22/60
Adult Core (sample adult) | 32,000 | 1 | 18/60
Adult Topical Module (sample adult) | 32,000 | 1 | 18/60
Child Core (adult family member) | 13,000 | 1 | 9/60
Child Topical Module (adult family member) | 13,000 | 1 | 6/60
Reinterview Survey | 3,250 | 1 | 5/60

Dated: September 18, 2006.
Joan F. Karr,
Acting Reports Clearance Officer, Centers for Disease Control and Prevention.

[FR Doc. 06-8042 Filed 9-21-06; 8:45 am]

BILLING CODE 4163-18-P